DEPARTMENT OF HEALTH AND HUMAN SERVICES

Health Resources and Services Administration

Determination of Number of Entities and Recruitment of Entities for Assignment of Corps Personnel Obligated Under the National Health Service Corps Scholarship Program

AGENCY: Health Resources and Services Administration (HRSA), Department of Health and Human Services.

ACTION: Notice.

SUMMARY: HRSA has determined that a minimum Health Professional Shortage Area (HPSA) score of 17 for assignment of all service-ready National Health Service Corps (NHSC) scholars is necessary for HRSA to meet its statutory obligation to identify a number of entities eligible for NHSC scholar placement that is at least equal to, but not greater than, twice the number of NHSC scholars available to serve in the 2017-2018 placement cycle. HRSA is also posting the proposed listing of entities and associated HPSA scores that will receive priority for assignment of NHSC Scholarship recipients available for service during the period October 1, 2017, through September 30, 2018, on the Health Workforce Connector Web site (formerly known as the NHSC Jobs Center) at https://connector.hrsa.gov/. The Health Workforce Connector includes sites that are approved for performance of service by NHSC scholars; however, entities on this list may or may not have current job vacancies.

DATES: Entities interested in providing additional data and information in support of their inclusion on the list of entities that will receive priority in assignment of NHSC scholars, or in support of a higher priority determination, must do so in writing no later than June 5, 2017.

ADDRESSES: Information in support of inclusion on the list of entities or a higher priority determination should be submitted to: Beth Dillon, Director, Division of Regional Operations, Bureau of Health Workforce, 1961 Stout Street, Denver, CO 80294. This information will be considered in preparing the final list of entities that are receiving priority for the assignment of NHSC Scholarship-obligated Corps personnel.

SUPPLEMENTARY INFORMATION: In accordance with the statutory requirement under 42 U.S.C. 254f-1(d), HRSA has determined that a minimum HPSA score of 17 for assignment of all service-ready NHSC scholars enables identification of a number of entities eligible for NHSC scholar placement that is at least equal to, but not greater than, twice the number of NHSC scholars available to serve in the 2017-2018 placement cycle. More specifically, for the program year October 1, 2017, through September 30, 2018, HPSAs of greatest shortage for determination of priority for assignment of NHSC Scholarship-obligated Corps personnel is defined as follows: (1) Primary medical care HPSAs with scores of 17 and above are authorized for the assignment of NHSC scholars who are primary care physicians, family nurse practitioners, physician assistants, or certified nurse midwives; (2) mental health HPSAs with scores of 17 and above are authorized for the assignment of NHSC scholars who are psychiatrists or mental health nurse practitioners; and (3) dental HPSAs with scores of 17 and above are authorized for the assignment of NHSC scholars who are dentists.

The proposed listing of entities and associated HPSA scores that will receive priority for assignment of NHSC Scholarship recipients available for service during the period October 1, 2017, through September 30, 2018, is posted on the Health Workforce Connector Web site (formerly known as the NHSC Jobs Center) at https://connector.hrsa.gov/. Entities interested in providing additional data and information in support of their inclusion on this list of entities or in support of a higher priority determination must do so in writing by the date above.

Please note that HRSA may update the list of HPSAs and entities eligible to receive priority for the placement of NHSC scholars and may remove or add entities to the Health Workforce Connector during the annual Site Application competition. Accordingly, entities that no longer meet eligibility criteria, including those sites whose 3-year approval as an NHSC service site has lapsed or whose HPSA designation has been withdrawn or proposed for withdrawal, will be removed from the priority listing.

Sites wishing to request an additional scholar must complete an Additional Scholar Request form available at http://nhsc.hrsa.gov/downloads/additionalrequestform.pdf. NHSC-approved sites that do not meet the authorized threshold HPSA score of 17 may post job openings on the Health Workforce Connector; however, scholars seeking placement between October 1, 2017, and September 30, 2018, will be advised that they can only apply for open positions at sites that meet the threshold placement HPSA score of 17. While not eligible for scholar placements in the 2017-2018 cycle, vacancies in HPSAs scoring less than 17 will be used by the NHSC in evaluating the HPSA threshold score for the next annual scholarship placement cycle.

The program is not subject to the provisions of Executive Order 12372, Intergovernmental Review of Federal Programs (as implemented through 45 CFR part 100).

Dated: April 27, 2017.
James Macrae,
Acting Administrator.

[FR Doc. 2017-09024 Filed 5-3-17; 8:45 am]

BILLING CODE 4165-15-P